DEPARTMENT OF ENERGY

Federal Energy Regulatory Commission

[Docket No. GT02-26-000]

Discovery Gas Transmission LLC; Notice of Proposed Tariff Change

June 6, 2002.

Take notice that on May 30, 2002, Discovery Gas Transmission LLC (Discovery) tendered for filing its revised title page to its FERC Gas Tariff Original Volume No. 1. Such amendment is proposed to become effective May 30, 2002.

Discovery states that the purpose of the instant filing is to replace Discovery's existing title page to its tariff to correct information regarding the person to whom communications concerning the tariff should be sent. This change is made necessary by the change in operatorship of Discovery from Texaco Pipelines LLC to Williams Energy LLC.

Discovery states that copies of the filing are being mailed to affected customers, State Commissions and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14868 Filed 6-12-02; 8:45 am]

BILLING CODE 6717-01-P